DEPARTMENT OF STATE

[Public Notice: 11729]

Notice of Public Meeting of the U.S. President's Emergency Plan for AIDS Relief (PEPFAR) Scientific Advisory Board

SUMMARY: In accordance with the Federal Advisory Committee Act, the U.S. Department of State announces that the PEPFAR Scientific Advisory Board (SAB) will be holding a virtual meeting of the full board. The meeting will be open to the public. Pre-registration is required for public participation.

DATES: The meeting will be held on Tuesday, June 7, 2022, from approximately 11:00 a.m. to 1:00 p.m. (EDT) utilizing an online platform. Requests to attend the meeting must be received no later than May 31, 2022. Requests for reasonable accommodations must be received no later than May 31, 2022. Requests made after May 31, 2022, will be considered but might not be able to be fulfilled.

ADDRESSES: Individuals wishing to participate are asked to pre-register at https://forms.gle/9TUWqUGjzKXFTFZ17. The agenda be sent to all registrants and will also be posted on the PEPFAR SAB web page at www.state.gov/scientific-advisory-board-pepfar one week in advance of the meeting, along with instructions on how to access the meeting.

FOR FURTHER INFORMATION CONTACT: Dr. Sara Klucking, Designated Federal Officer for the SAB, Office of the U.S. Global AIDS Coordinator and Health Diplomacy at KluckingSR@state.gov or (202) 615-4350.

SUPPLEMENTARY INFORMATION:

Background: The SAB is established under the general authority of the Secretary of State and the Department of State (“the Department”) as set forth in 22 U.S.C. 2656, and consistent with the Federal Advisory Committee Act, as amended (5 U.S.C. Appendix). The SAB serves the U.S. Global AIDS Coordinator solely in an advisory capacity concerning scientific, implementation, and policy issues related to the global response to HIV/AIDS.

Agenda: SAB members will be discussing considerations for PEPFAR for implementation of long-acting injectable cabotegravir (CAB for PrEP) and tools for recent infection monitoring.

Public comment: Members of the public who wish to participate are asked to register directly at the link listed in the ADDRESSES section or by sending an email to Dr. Sara Klucking at KluckingSR@state.gov not later than May 31, 2022. Individuals are required to provide their name, email address, and organization. Due to time limitations, there will not be public comment at the meeting; however, the Department will consider any written comments provided within 10 days after the meeting to Dr. Sara Klucking at KluckingSR@state.gov.

Sara Klucking,
Director, Office of Research and Science, Office of the U.S. Global AIDS Coordinator and Health Diplomacy, Office of the Secretary of State, Department of State.

[FR Doc. 2022-11171 Filed 5-24-22; 8:45 am]

BILLING CODE 4710-10-P